DEPARTMENT OF COMMERCE

International Trade Administration

[A-570-808; A-583-810]

Revocation of Antidumping Duty Orders: Chrome-Plated Lug Nuts From the People's Republic of China and Taiwan

AGENCY: Import Administration, International Trade Administration, Department of Commerce

ACTION: Notice of revocation of antidumping duty orders: chrome-plated lug nuts from the People's Republic of China and Taiwan.

SUMMARY: Pursuant to section 751(c) of the Tariff Act of 1930, as amended (“the Act”), the United States International Trade Commission (“the Commission”) determined that revocation of the antidumping duty orders on chrome-plated lug nuts from the People's Republic of China (“China”) and Taiwan is not likely to lead to continuation or recurrence of material injury to an industry in the United States within a reasonably foreseeable time. See 65 FR 66558 (November 6, 2000). Therefore, pursuant to section 751(d)(2) of the Act and 19 CFR 351.222(i)(1), the Department of Commerce (“the Department”) is revoking the antidumping duty orders on chrome-plated lug nuts from China and Taiwan. Pursuant to section 751(c)(6)(A)(iv) of the Act and 19 CFR 351.222(i)(2), the effective date of revocation is January 1, 2000.

EFFECTIVE DATE: January 1, 2000.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

Background

On August 2, 1999, the Department initiated, and the Commission instituted, sunset reviews of the antidumping duty orders on chrome-plated lug nuts from China and Taiwan, pursuant to section 751(c) of the Act.¹ As a result of the reviews, the Department found that revocation of the antidumping duty orders would be likely to lead to continuation or recurrence of dumping and notified the Commission of the magnitude of the margins likely to prevail were the antidumping orders revoked.²

¹ See Initiation of Five-Year (“Sunset”) Reviews; 64 FR 41915 (August 2, 1999), and Chrome-Plated Lug Nuts from China and Taiwan, 64 FR 41949 (August 2, 1999).

² See Chrome-Plated Lug Nuts From the People's Republic of Chin and Taiwan; Final Results of Antidumping Duty Sunset Reviews: 65 FR 11762 (March 6, 2000).

On November 6, 2000, the Commission determined, pursuant to section 751(c) of the Act, that revocation of the antidumping duty orders on chrome-plated lug nuts from China and Taiwan would not likely lead to continuation or recurrence of material injury to an industry in the United States within a reasonably foreseeable time. See Chrome-Plated Lug Nuts from China and Taiwan, 65 FR 66558 (November 6, 2000) and USITC Publication 3362, Investigations Nos. 731-TA-474 and 475 (Review) (October 2000).

Scope of the Orders

The products covered by these orders are one-piece and two-piece chrome-plated and nickel-plated lug nuts from China and Taiwan. The subject merchandise includes chrome-plated and nickel-plated lug nuts, finished or unfinished, which are more than 11/16 inches (17.45 millimeters) in height and which have a hexagonal size of at least ¾ inches (19.05 millimeters) but not over one inch (25.4 millimeters), plus or minus 1/16 of an inch (1.59 millimeters). The term “unfinished” refers to unplated and/or unassembled chrome-plated lug nuts. The subject merchandise is used for securing wheels to cars, vans, trucks, utility vehicles, and trailers. Excluded from the orders are zinc-plated lug nuts, finished or unfinished, stainless steel capped lug nuts, and chrome-plated lock nuts. The merchandise covered by the orders currently classifiable under item 7318.16.00 of the Harmonized Tariff Schedule of the United States (“HTSUS”). Although the HTSUS subheading is provided for convenience and customs purposes, the written description of the subject merchandise remains dispositive.

The Department has made several scope rulings on the subject merchandise from China and Taiwan. The following products were determined to be within the scope of the order:

Product within scope | Importer | Citation
Certain hex size nuts | Consolidated International | 59 FR 54888
Certain nickel-plated lug nuts | Consolidated International Automative, Inc | 62 FR 9176
Imported zinc-plated lug nuts-chrome-plated in the United States | Wheel Plus, Inc. | 63 FR 59544

Determination

As a result of the determination by the Commission that revocation of these antidumping duty orders is not likely to lead to continuation or recurrence of material injury to an industry in the United States, the Department, pursuant to section 751(d)(2) of the Act and 19 CFR 351.222(i)(1), is revoking the antidumping duty orders on chrome-plated lug nuts from China and Taiwan. Pursuant to section 751(c)(6)(A)(iv) of the Act and 19 CFR 351.222(i)(2)(ii), this revocation is effective January 1, 2000.

The Department will instruct the Customs Service to discontinue the suspension of liquidation and collection of cash deposit rates on entries of the subject merchandise entered or withdrawn from warehouse on or after January 1, 2000 (the effective date). The Department will complete any pending administrative reviews of these orders and will conduct administrative reviews of subject merchandise entered prior to the effective date of revocation in response to appropriately filed requests for review.

Dated: November 9, 2000.
Troy H. Cribb,
Assistant Secretary for Import Administration.

[FR Doc. 00-29407 Filed 11-15-00; 8:45 am]

BILLING CODE 3510-DS-P